DEPARTMENT OF HEALTH AND HUMAN SERVICES

Meeting of the Advisory Committee on Blood Safety and Availability

AGENCY: Department of Health and Human Services, Office of the Secretary.

ACTION: Notice.

SUMMARY: As stipulated by the Federal Advisory Committee Act, the U.S. Department of Health and Human Services is hereby giving notice that the Advisory Committee on Blood Safety and Availability (ACBSA) will hold a meeting. The meeting will be open to the public on both Wednesday, August 22 and Thursday, August 23, 2007.

DATES: The meeting will take place Wednesday, August 22, 2007 and Thursday, August 23, 2007 from 9 a.m. to 5 p.m.

ADDRESSES: Georgetown University Conference Center, 3800 Reservoir Road, NW., Washington, DC 20057

FOR FURTHER INFORMATION CONTACT: Jerry A. Holmberg, PhD, Executive Secretary, Advisory Committee on Blood Safety and Availability, Office of Public Health and Science, Department of Health and Human Services, 1101 Wootton Parkway, Room 250, Rockville, MD 20852, (240) 453-8803, fax (240) 453-8456, e-mail ACBSA@hhs.gov.

SUPPLEMENTARY INFORMATION: The ACBSA will discuss ethical considerations and risk benefits for ensuring transfusion and transplantation safety during focal periods of shortages. In addition the Committee will review and discuss the elasticity of the blood supply to support transfusion and transplantation safety as well as strategies and barriers to those strategies.

Public comment will be solicited on both August 22 and 23, 2007. Comments will be limited to five minutes per speaker. Anyone planning to comment is encouraged to contact the Executive Secretary at his/her earliest convenience. Those who wish to have printed material distributed to Advisory Committee members should submit thirty (30) copies to the Executive Secretary prior to close of business August 17, 2007. Likewise, those who wish to utilize electronic data projection to the Committee must submit their materials to the Executive Secretary prior to close of business August 17, 2007.

Dated: July 26, 2007.
Richard A. Henry,
Deputy Executive Secretary, Advisory Committee on Blood Safety and Availability.

[FR Doc. E7-15682 Filed 8-9-07; 8:45 am]

BILLING CODE 4150-41-P